CONSUMER PRODUCT SAFETY COMMISSION

Sunshine Act Meeting

AGENCY: Consumer Product Safety Commission, Washington, DC 20207.

TIME AND DATE: Thursday, December 7, 2000, 2 p.m.

LOCATION: Room 410, East-West Towers, 4330 East-West Highway, Bethesda, Maryland.

STATUS: Closed to the Public—Pursuant to 5 U.S.C. 552b(f)(1) and 16 CFR 1013.4(b) (3), (7), (9), and (10) and submitted to the Federal Register pursuant to 5 U.S.C. 552b(e)(3).

Matter to be Considered:

Compliance Status Report

The staff will brief the Commission on the status of various compliance matters.

For a recorded message containing the latest agenda information, call (301) 504-0709.

CONTACT PERSON FOR ADDITIONAL INFORMATION: Sadye E. Dunn, Office of the Secretary, 4330 East-West Highway, Bethesda, MD 20207, (301) 504-0800.

Dated: November 28, 2000.
Sadye E. Dunn,
Secretary.

[FR Doc. 00-30691 Filed 11-28-00; 2:48 pm]

BILLING CODE 6335-01-M